DEPARTMENT OF ENERGY

Federal Energy Regulatory Commission

[Project No. 14529-000]

City of Berlin, Berlin Water Works; Notice of Preliminary Permit Application Accepted for Filing and Soliciting Comments, Motions To Intervene, and Competing Applications

On June 19, 2013, the City of Berlin, Berlin Water Works, filed an application for a preliminary permit, pursuant to section 4(f) of the Federal Power Act (FPA), proposing to study the feasibility of the Ammonoosuc Water Treatment Plant Hydroelectric Project (Project) to be located on a water supply conduit at the City of Berlin's municipal water treatment plant (WTP), in Coos County, New Hampshire. The sole purpose of a preliminary permit, if issued, is to grant the permit holder priority to file a license or exemption application during the permit term. A preliminary permit does not authorize the permit holder to perform any land-disturbing activities or otherwise enter upon lands or waters owned by others without the owners' express permission.

The proposed project would consist of the following: (1) Installation of inline turbine/generator(s), housed in a concrete vault immediately upstream from an existing pressure reducing value on an existing 16 to 20-inch diameter cement-transite water main leading to the City's WTP; (2) piping, valves, control panels, and other appurtenant equipment housed in the concrete vault; and (3) a two-way net metering system installed on an existing underground interconnection transmission line leading to Public Service of New Hampshire's utility line #25WL. The estimated annual generation of the project would be 51.0 megawatt-hours. The WTP will use the power produced by the proposed project to run process equipment, lighting, and fulfill other electrical needs in the WTP.

Applicant Contact: Mr. Roland Viens, Superintendent, City of Berlin, Berlin Water Works, 55 Willow Street, Berlin, New Hampshire, 03570; phone: (603) 752-1677.

FERC Contact: John Ramer; phone: (202) 502-8969 or email: john.ramer@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14529) in the docket number field to access the document. For assistance, contact FERC Online Support.

Dated: July 2, 2013.
Kimberly D. Bose,
Secretary.

[FR Doc. 2013-16497 Filed 7-9-13; 8:45 am]

BILLING CODE 6717-01-P